DEPARTMENT OF COMMERCE

National Oceanic and Atmospheric Administration

Science Advisory Board (SAB) Meeting

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Monday, November 5, 2007, from 10:30 a.m. to 5:30 p.m. and Tuesday, November 6, 2007, from 8 a.m. to 3:45 p.m. These times and the agenda topics described below are subject to change. Please refer to the Web page http://www.sab.noaa.gov/Meetings/meetings.html for the most up-to-date meeting agenda.

Place: The meeting will be held both days in the NOAA Nickles Conference Room 3910 at the National Weather Center on the campus of the University of Oklahoma, 120 David L. Boren Blvd., Norman, Oklahoma 73072-7303. Please check the SAB Web site http://www.sab.noaa.gov for confirmation of the venue.

Status: The meeting will be open to public participation with a 30-minute public comment period on November 6 (check Web site to confirm time). The SAB expects that public statements presented at its meetings will not be repetitive of previously submitted verbal or written statements. In general, each individual or group making a verbal presentation will be limited to a total time of five (5) minutes. Written comments should be received in the SAB Executive Director's Office by October 29, 2007 to provide sufficient time for SAB review. Written comments received by the SAB Executive Director after October 29, 2007, will be distributed to the SAB, but may not be reviewed prior to the meeting date. Seats will be available on a first-come, first-served basis.

Matters To Be Considered: The meeting will include the following topics: (1) The final NOAA response to the Reports from the Hurricane Intensity Research Working Group (HIRWG); (2) the final NOAA response to the External Review of NOAA's Ecosystem Research and Science Enterprise; (3) the draft report from the SAB's Extension, Outreach, and Education Working Group; (4) a presentation on Laboratory Reviews in the NOAA Office of Oceanic and Atmospheric Research; (5) tours and discussions of the University of Oklahoma and NOAA components of the National Weather Center; and (6) Updates from SAB Working Groups on Fire Weather Research, Social Science, and Partnerships.

FOR FURTHER INFORMATION CONTACT: Dr. Cynthia Decker, Executive Director, Science Advisory Board, NOAA, Rm. 11230, 1315 East-West Highway, Silver Spring, Maryland 20910. (Phone: 301-734-1156, Fax: 301-713-1459, e-mail: Cynthia.Decker@noaa.gov); or visit the NOAA SAB Web site at http://www.sab.noaa.gov.

Dated: October 18, 2007
Terry Bevels,
Deputy Chief Financial Officer, Office of Oceanic and Atmospheric Research, National Oceanic and Atmospheric Administration.

[FR Doc. E7-20866 Filed 10-23-07; 8:45 am]

BILLING CODE 3510-KD-P